OFFICE OF PERSONNEL MANAGEMENT

Submission for Review: Combined Federal Campaign Charity Applications, OPM Form 1654-B

AGENCY: Office of Personnel Management.

ACTION: 60-Day notice and request for comments.

SUMMARY: The Combined Federal Campaign (CFC), Office of Personnel Management (OPM) offers the general public and other federal agencies the opportunity to comment on the renewal of an information collection request, Combined Federal Campaign Retiree/Annuitant Pledge Form OMB Control No. 3206-0271, which include OPM Form 1654-B. As required by the Paperwork Reduction Act of 1995, as amended by the Clinger-Cohen Act, OPM is soliciting comments for this collection. The Office of Personnel Management is particularly interested in comments that:

1. Evaluate whether the continued collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until June 15, 2020.

ADDRESSES: You may submit comments, identified by docket number and/or Regulatory Information Number (RIN) and title, by the following method:

—Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: A copy of this ICR, with applicable supporting documentation, may be obtained by contacting the U.S. Office of Personnel Management, Combined Federal Campaign, 1900 E Street NW, Washington, DC 20415, Attention: Marcus Glasgow or sent via electronic mail to cfc@opm.gov.

SUPPLEMENTARY INFORMATION: The Combined Federal Campaign (CFC) is the world's largest and most successful annual workplace philanthropic giving campaign, with 36 CFC campaign zones throughout the country and overseas raising millions of dollars each year. The mission of the CFC is to promote and support philanthropy through a program that is employee focused, cost-efficient, and effective in providing all federal employees the opportunity to improve the quality of life for all. With the signing of Executive Order 13743 on October 13, 2016, authorizing the solicitation of federal annuitants, the Combined Federal Campaign Retiree/Annuitant Pledge Form will be used to collect and process federal retirees' and annuitants' pledges through the Combined Federal Campaign.

Analysis

Agency: Combined Federal Campaign, Office of Personnel Management.

Title: OPM Form 1654-B.

OMB Number: OMB Control No. 3206-0271.

Frequency: Annually.

Affected Public: Individuals or Households.

Number of Respondents: 250,000.

Estimated Time per Respondent: 30 minutes.

Total Burden Hours: 125,000 hours.

Office of Personnel Management.
Alexys Stanley,
Regulatory Affairs Analyst.

[FR Doc. 2020-07766 Filed 4-13-20; 8:45 am]

BILLING CODE 6325-38-P